ENVIRONMENTAL PROTECTION AGENCY

[FRL-7074-9]

Agency Information Collection Activities: Submission for OMB Review; Comment Request; Public Water System Supervision Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Public Water System Supervision Program, OMB Control No. 2040-0090 expiring September 30, 2001. The ICR describes the nature of the information collection and its expected burden and cost; where appropriate, it includes the actual data collection instrument.

DATES: Comments must be submitted on or before November 5, 2001.

ADDRESSES: Send comments, referencing EPA ICR No. 02740. and OMB Control No. 2040-0090, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 0270.40. For technical questions about the ICR contact Lisa Christ at (202) 260-3967 of the Office of Ground Water Drinking Water.

SUPPLEMENTARY INFORMATION: Title: Public Water System Supervision Program (OMB Control No. 2040-0090; EPA ICR No. 0270.40) expiring September 30, 2001. This is a request for extension of a currently approved ICR.

Abstract: The 2001 PWSS Program ICR is the result of a consolidation of some rules and activities covered in the 1993 PWSS ICR and activities and rules previously covered in other OGWDW standalone ICRs. The 2001 PWSS Program ICR will include: General State and Indian Primacy activities, Variance & Exemptions Rule (EPA ICR Number 0270.39), Primacy Regulations Activities (Administrative Penalty Authority) (EPA ICR Number 1836.01; OMB Control Number 2040-0195), Capacity Development Program, Operator Certification Guidelines and Expense Grant Reimbursement Program (EPA ICR Number 1955.01), and Consumer Confidence Reports (OMB Control Number 2040-0201, EPA ICR Number 1832.02). Rules and activities previously covered in the 1993 PWSS Program ICR, and not addressed in this one, have administratively moved to other OGWDW ICRs as appropriate. This ICR contains recordkeeping and reporting requirements that are mandatory for compliance with 40 CFR parts 141 and 142. Sections 1401 and 1412 of the Safe Drinking Water Act (SDWA), as amended, require EPA to establish National Primary Drinking Water Regulations (NPDWRs) for contaminants that may have an adverse human health effect. The Act further requires EPA to monitor and enforce these regulations to ensure a supply of drinking water, which dependably complies with the maximum contaminant levels (MCLs) set forth in 40 CFR part 141, subpart B. Section 1445 of SDWA stipulates that every supplier of water shall conduct monitoring, maintain records, and provide such information as is needed for the Agency to carry out its monitoring and enforcement responsibilities with respect to SDWA. Implementation of these monitoring requirements is principally a responsibility of the States, particularly those States that have assumed primary enforcement responsibility (primacy) for public water systems under SDWA section 1413. EPA has chosen to require the least frequent collection that remains consistent with overall public health preservation objectives. Data collected allow States to identify in a timely fashion significant contaminant concentrations which might threaten the health and safety of drinking water consumers. The information collected in this ICR is used to aid in understanding the quality of drinking water, make regulatory enforcement decisions, oversee State programs, and make decisions regarding EPA grants. Primary users of the data collected under this ICR are Office of Ground Water Drinking Water (OGWDW), Office of Enforcement & Compliance Assurance (OECA), Public Water System managers and primacy agencies, which include State regulators, Indian Tribes and occasionally Regional Administrators. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on May 2, 2001 and one comment was received.

Burden Statement: The annual public reporting and recordkeeping burden for this collection of information is estimated to average 6.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: New and Existing Public Water Systems and Primacy agencies.

Estimated Number of Respondents: 168,302.

Frequency of Response: varies by requirement (e.g. monthly, quarterly, annually)

Estimated Total Annual Hour Burden: 1,864,559 hours.

Estimated Total Annualized Capital, O&M Cost Burden: $64,106,000.

Send comments on the Agency's need for this information, the accuracy of the provided burden estimates, and any suggested methods for minimizing respondent burden, including through the use of automated collection techniques to the addresses listed above. Please refer to EPA ICR No. 0270.40 and OMB Control NO. 2040-0090 in any correspondence.

Dated: September 26, 2001.
Oscar Morales,
Director, Collection Strategies Division.

[FR Doc. 01-25003 Filed 10-3-01; 8:45 am]

BILLING CODE 6560-50-M